Proclamation 9200 of October 31, 2014

Military Family Month, 2014

By the President of the United States of America

A Proclamation

For more than two centuries, members of our Armed Forces have defended our country with unyielding courage. In our Nation's times of need, these brave patriots step forward to answer America's call, leaving behind everything they know and love. And as they help secure our freedom and democracy, their families sacrifice alongside them. During Military Family Month, we recognize every spouse, parent, sibling, child, and loved one who stands with our service members, and we reaffirm our solemn vow to serve these families as well as they serve us.

The selflessness of our military families tells a story of unfailing duty and devotion. Through long deployments, difficult separations, and moves across the country and overseas, spouses and partners put their careers on hold and children take on extra responsibilities. With grace and resilience, families endure the absence of loved ones and shoulder the burdens of war. And when battle ends and our service members return home, their families support their transition and recovery.

To fulfill our sacred promise to our service members and their loved ones, my Administration continues to make supporting our military families a top priority. This year, we launched the Veterans Employment Center, an interagency resource to connect transitioning service members, veterans, and their spouses to meaningful career opportunities. We are also committed to fostering partnerships with organizations that help military caregivers and making consistent and effective family services available, including mental health care and counseling, deployment and relocation assistance, and child care and youth programs. Through their Joining Forces initiative, First Lady Michelle Obama and Dr. Jill Biden are working to ensure members of our Armed Forces, veterans, and their families have all the opportunities and benefits they deserve. And since 2011, their efforts have encouraged businesses to hire more than 500,000 veterans and military spouses.

Every day, our military families at home and abroad inspire us and remind us of our obligation to take care of those who do so much for our country. As a grateful Nation, we pay tribute to the women and men who have made our military the finest fighting force the world has ever known, and we honor the enduring strength and dedication of their families.

NOW, THEREFORE, I, BARACK OBAMA, President of the United States of America, by virtue of the authority vested in me by the Constitution and the laws of the United States, do hereby proclaim November 2014 as Military Family Month. I call on all Americans to honor military families through private actions and public service for the tremendous contributions they make in support of our service members and our Nation.

IN WITNESS WHEREOF, I have hereunto set my hand this thirty-first day of October, in the year of our Lord two thousand fourteen, and of the Independence of the United States of America the two hundred and thirty-ninth.

[FR Doc. 2014-26476

Filed 11-4-14; 11:15 am]

Billing code 3295-F5